DEPARTMENT OF AGRICULTURE

Submission for OMB Review; Comment Request

February 15, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 24, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Food Package Costs and Cost Containment Study.

OMB Control Number: 0584—NEW.

Summary of Collection: The Special Supplemental Nutrition Program for Women, Infants, and Children (WIC) provides supplemental foods to safeguard the health of low-income pregnant and post-partum women, infants, and children up to 5 years of age who are at nutritional risk. In an effort to ensure the best use of available funds and to provide for participation by eligible individuals, WIC State agencies (SA) are responsible for implementing food package and other cost containment measures. This study will gather information on the cost-containment practices.

Need and Use of the Information: The purpose of this study is to gather information on the major types of cost containment practices used by the 90 WIC SAs, assess the effectiveness of various practices, and identify those practices that effectively constrain the cost of WIC foods with few or no adverse effects on program outcomes. To fulfill this purpose, primary and administrative data will be collected from WIC SA directors, WIC SA staff, WIC participants, and former WIC participants. FNS will use the findings from this study to share with WIC SAs food item cost containment practices that are effective at reducing WIC food costs, as recommended by the OIG.

Description of Respondents: Individuals or households, and State, Local, or Tribal Government.

Number of Respondents: 6,565.

Frequency of Responses: Reporting: On occasion.

Total Burden Hours: 2,356.

Ruth Brown,
Departmental Information Collection Clearance Officer.

[FR Doc. 2017-03382 Filed 2-21-17; 8:45 am]

BILLING CODE 3410-30-P